DEPARTMENT OF ENERGY

Federal Energy Regulatory Commission

[Docket No. EL11-57-000]

Louisiana Public Service Commission v. Entergy Corporation, Entergy Services, Inc., Entergy Louisiana, LLC, Entergy Arkansas, Inc., Entergy Mississippi, Inc., Entergy New Orleans, Inc., Entergy Gulf States Louisiana, LLC, Entergy Texas, Inc.; Notice of Amended Complaint

Take notice that on September 16, 2011, pursuant to sections 206 and 306 of the Federal Power Act 16 U.S.C. 824e and 825(e) and 18 CFR 386.206 of the Commission's Rules of Practice and Procedures, the Louisiana Public Service Commission (Complainant) filed an amended and supplemental complaint against Entergy Corporation, Entergy Services, Inc., Entergy Louisiana, LLC, Entergy Arkansas, Inc., Entergy Mississippi, Inc., Entergy New Orleans, Inc., Entergy Texas, Inc., and Entergy Gulf States Louisiana, LLC (Respondents), seeking a remedy to allocate and assign the Little Gypsy Repowering Project cancellation costs among all the Entergy Operating Companies, based on their 12-Coincident Peak demands at the time of the cancellation of the project or, alternatively, to change the Entergy rough equalization bandwidth formula found in Service Schedule MSS-3 of the Entergy System Agreement to include the Little Gypsy Repowering Project cancellation costs.

The Complainant certifies that copies of the complaint were served on the contacts for Entergy Corporation, Entergy Services, Inc., Entergy Louisiana, LLC, Entergy Arkansas, Inc., Entergy Mississippi Inc., Entergy New Orleans, Inc., Entergy Texas, Inc., and Entergy Gulf States Louisiana, LLC, as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on October 6, 2011.

Dated: September 26, 2011.
Kimberly D. Bose,
Secretary.

[FR Doc. 2011-25213 Filed 9-29-11; 8:45 am]

BILLING CODE 6717-01-P